DEPARTMENT OF COMMERCE

International Trade Administration

[A-570-863]

Honey From the People's Republic of China: Amended Final Results of First Antidumping Duty Administrative Review

AGENCY: Import Administration, International Trade Administration, Department of Commerce.

ACTION: Notice of amended final results of first antidumping duty administrative review.

SUMMARY: On May 5, 2004, the U.S. Department of Commerce (the Department) published in the Federal Register the final results of the first administrative review of the antidumping duty order on honey from the People's Republic of China (PRC) covering the period February 10, 2001, through November 30, 2002 ¹ (69 FR 25060). On May 4, 2004, in accordance with 19 CFR 351.224(c)(2), we received timely-filed ministerial error allegations from respondent, Zhejiang Native Produce and Animal By-Products Import & Export Corp. a.k.a. Zhejiang Native Produce and Animal By-Products Import and Export Group Corporation (Zhejiang). We did not receive comments from petitioners.² Based on our analysis of Zhejiang's ministerial error allegations, the Department has revised the antidumping duty rate for Zhejiang. Accordingly, we are amending the final results. See the “Amended Final Results of Review” section below.

¹ The period of review (POR) for those entities with an affirmative critical circumstances finding from the less-than-fair-value investigation (including Zhejiang) is February 10, 2001, through November 30, 2002. For all other companies, the period of review is May 11, 2001, through November 30, 2002.

² Petitioners in this proceeding are the American Honey Producers Association and the Sioux Honey Association.

EFFECTIVE DATE: June 10, 2004.

FOR FURTHER INFORMATION CONTACT: Angelica Mendoza or Brandon Farlander at (202) 482-3019 or (202) 482-0182, respectively; Antidumping and Countervailing Duty Enforcement Group III, Import Administration, International Trade Administration, U.S. Department of Commerce, 14th Street and Constitution Avenue, NW., Washington, DC 20230.

SUPPLEMENTARY INFORMATION:

Scope of the Antidumping Duty Order

The products covered by this order are natural honey, artificial honey containing more than 50 percent natural honey by weight, preparations of natural honey containing more than 50 percent natural honey by weight, and flavored honey. The subject merchandise includes all grades and colors of honey whether in liquid, creamed, comb, cut comb, or chunk form, and whether packaged for retail or in bulk form.

The merchandise subject to this review is currently classifiable under subheadings 0409.00.00, 1702.90.90, and 2106.90.99 of the Harmonized Tariff Schedule of the United States (HTSUS). Although the HTSUS subheadings are provided for convenience and the U.S. Customs and Border Protection (CBP) purposes, the Department's written description of the merchandise under order is dispositive.

Amended Final Results of Review

Zhejiang alleged that the Department did not calculate a raw honey value representative of the POR, as it intended to do, in calculating Zhejiang's final ad valorem margin. Specifically, Zhejiang alleged that the Department: (1) Incorrectly double-counted for the December 2001 raw honey surrogate value, adjusted for inflation, in its calculation of a POR average value and (2) failed to inflate the raw honey surrogate value by an average rate of inflation for the period February 2001 through November 2001, which was inconsistent with its calculation of inflation for the period June 2002 through November 2002. Additionally, Zhejiang noted that the Department incorrectly described the denominator used to calculate inflation for the period June 2002 through November 2002.

We agree in part with Zhejiang. The Act, as well as the Department's regulations, define a ministerial error as one involving “addition, subtraction, or other arithmetic function, clerical errors resulting from inaccurate copying, duplication, or the like, and any other type of unintentional error which the Secretary considers ministerial.” See section 751(h) of the Act and 19 CFR 351.224(f) of the Department's regulations. We agree with Zhejiang's claim that we inadvertently failed to inflate the raw honey surrogate value by an average rate of inflation for the period February 2001 through November 2001. Therefore, we have corrected Zhejiang's final margin program accordingly. However, the Department disagrees with Zhejiang's other claim that the Department double-counted the December 2001 raw honey surrogate value in its calculations. In fact, the Department only represented the December 2001 raw honey surrogate value (adjusted for inflation) once in its calculation. See Memorandum to the File regarding Final Results of the First Administrative Review of the Antidumping Duty Order on Honey from the People's Republic of China; Factors of Production Valuation (April 28, 2004) (Final FOP Memo) at Attachment 2, in which the Department notes that it calculated an average raw honey surrogate value for the period January 2002 through May 2002. Therefore, since the Department did not commit an error with respect to the December 2001 surrogate value, we are not making any adjustments in regard to our use of the December 2001 raw honey surrogate value in our final calculation of the final POR average value. See the June 1, 2004, memorandum to James J. Jochum, Assistant Secretary for Import Administration, from Joseph A. Spetrini, Deputy Assistant Secretary for AD/CVD Enforcement Group III (Amended Final Memo) at Attachment 1.

With respect to Zhejiang's comment that the Department incorrectly described the denominator that yielded its Inflator 2 calculation, we have updated the description to accurately reflect the variable used by the Department. See Amended Final Memo at Attachment 3.

As a result of our corrections, for the period February 10, 2001, through November 30, 2002, Zhejiang's antidumping duty margin decreased from 68.35 percent to 67.70 percent ad valorem.

The Department will instruct the CBP to assess antidumping duties, as indicated above, on all appropriate entries. The Department will issue liquidation instructions directly to the CBP. The amended cash deposit requirement is effective for all shipments of subject merchandise from Zhejiang entered, or withdrawn from warehouse, for consumption on or after the date of publication of this notice and shall remain in effect until publication of the final results of the next administrative review.

These amended final results are issued and published in accordance with section 751(h) of the Act and 19 CFR 351.224 of the Department's regulations.

Dated: June 2, 2004.
James J. Jochum,
Assistant Secretary for Import Administration.

[FR Doc. 04-13067 Filed 6-9-04; 8:45 am]

BILLING CODE 3510-DS-P